FEDERAL DEPOSIT INSURANCE CORPORATION

12 CFR Part 328

RIN 3064-AG14

FDIC Official Signs, Advertisement of Membership, False Advertising, Misrepresentation of Insured Status, and Misuse of the FDIC's Name or Logo

AGENCY: Federal Deposit Insurance Corporation.

ACTION: Final rule.

SUMMARY: The Federal Deposit Insurance Corporation (FDIC) is amending its signage requirements for insured depository institutions' (IDIs) digital deposit-taking channels and automated teller machines (ATMs) and like devices. This final rule is intended to address implementation issues and sources of potential confusion raised following the adoption of signage requirements for these banking channels in 2023. The final rule provides additional flexibility to IDIs while also enabling consumers to better understand when they are conducting business with an IDI and when their funds are protected by the FDIC's deposit insurance coverage.

DATES:

Effective date: The amendments made in this rule are effective March 2, 2026.

Compliance date: Compliance is required by April 1, 2027.

FOR FURTHER INFORMATION CONTACT: Division of Depositor and Consumer Protection: Monika Jansen, Senior Policy Analyst, (202) 898-6781, MoJansen@fdic.gov; Edward Hof, Senior Policy Analyst, (202) 898-7213, EdwHof@fdic.gov; Meron Wondwosen, Assistant Director, (202) 898-3544, MeWondwosen@fdic.gov; Legal Division: Shane Bogusz, Senior Attorney, (571) 366-0212, SBogusz@fdic.gov; Nathan Raygor, Senior Attorney, (202) 898-8688, NRaygor@fdic.gov.

SUPPLEMENTARY INFORMATION:

I. Policy Objectives and History

This final rule amends the signage requirements at 12 CFR 328.4 and 328.5 to provide IDIs with greater flexibility in the display of FDIC signage on digital deposit-taking channels and ATMs and like devices. The final rule seeks to minimize implementation issues, reduce burden, and address potential consumer confusion. The final rule does not amend other provisions under 12 CFR part 328.

On December 20, 2023, the FDIC adopted a final rule that, among other things, amended the FDIC's official sign and advertisement of membership regulations under subpart A of 12 CFR part 328 (the 2023 Final Rule). The rule established signage requirements across a wide range of banking channels, including physical premises, digital deposit-taking channels, and ATMs and like devices.¹

¹ 89 FR 3504 (Jan. 18, 2024).

Following the adoption of the 2023 Final Rule, some IDIs requested additional time to meet the new requirements. As a result, the FDIC delayed the compliance deadline for the subpart A amendments.² Thereafter, the FDIC observed that the provisions governing signage requirements for digital deposit-taking channels and ATMs and like devices, 12 CFR 328.4 and 328.5, continued to generate questions regarding implementation and had the potential to cause consumer confusion.³ Accordingly, the FDIC further delayed compliance for those provisions. This extension was intended to allow the FDIC to propose changes to these requirements.⁴ On November 25, 2025, the FDIC further extended the compliance date for 12 CFR 328.4 and 328.5 from March 1, 2026, to January 1, 2027, noting the uncertainty IDIs faced while the FDIC considered changes to those provisions.⁵

² 89 FR 84261 (Oct. 22, 2024).

³ 90 FR 11659 (Mar. 11, 2025).

⁴ See id.

⁵ See 90 FR 54544 (Nov. 28, 2025).

II. Background

A. Statutory Authority and FDIC Regulations

The FDIC maintains stability and public confidence in the nation's financial system by, among other things, insuring the deposits of all IDIs. Section 18(a) of the Federal Deposit Insurance Act (FDI Act) ⁶ governs IDI sign and advertising statement requirements and grants the FDIC authority to prescribe regulations with respect to these requirements. The regulations implementing signage and advertisement requirements are contained in 12 CFR 328.0 through 328.8 of subpart A (subpart A). Subpart A applies to IDIs, including insured branches of foreign banks.

⁶ 12 U.S.C. 1828(a).

B. August 2025 Proposal and Comments

In response to potential consumer confusion and challenges with implementing the 2023 Final Rule's signage requirements for digital deposit-taking channels, ATMs, and like devices, the FDIC published a notice of proposed rulemaking (NPR or proposal) in the Federal Register on August 21, 2025. The NPR proposed to amend the signage requirements at 12 CFR 328.4 and 328.5 and requested public comment.⁷

⁷ See 90 FR 40767 (Aug. 21, 2025).

The NPR intended to clarify and provide greater flexibility with respect to the requirements regarding the (1) FDIC official digital sign design; (2) display of signage on digital deposit-taking channels; and (3) display of signage on ATMs and like devices. The NPR solicited comments on all aspects of the proposed rule. The comment period ended on October 20, 2025. The FDIC received a total of nine substantive comments from industry groups, a payments provider, a non-profit organization, and an individual.⁸ Comments are discussed below.

⁸ Comments may be accessed at: https://www.fdic.gov/federal-register-publications/comments-rin-3064-ag14.

III. Final Rule and Discussion of Comments

The FDIC reviewed and carefully considered public comments received and is generally finalizing the rule as proposed, with some changes and clarifications, as described below. The amendments made by this final rule will take effect 30 days following publication in the Federal Register. For reasons discussed below, the compliance date for the amendments made by this final rule will be April 1, 2027.

A. FDIC Official Digital Sign Design Requirements

Proposed Rule

The requirements governing the design of the FDIC official digital sign appear at 12 CFR 328.5(b). Those requirements include specific text, color, font, and size requirements, such as specific hexadecimal color codes and wordmark sizes and provide limited flexibility for cases in which the required colors would be illegible due to the color of the background on a digital deposit-taking channel.

The NPR proposed amendments to 12 CFR 328.5(b) that would have provided additional flexibility with respect to the color, font, and text size that IDIs may use when displaying the FDIC official digital sign. Although the NPR would have continued to require that the FDIC official digital sign be displayed in either a combination of navy blue and black text or all-white text, the NPR would not have prescribed specific hexadecimal color codes or required a specific font size for the text of the FDIC official digital sign. The proposed amendments would have provided additional flexibility by not requiring specific font sizes and allowing the font used for the FDIC official digital sign to be Source Sans Pro Web or a similar font. Consistent with the FDIC's previous guidance in “Questions and Answers Related to the FDIC's Part 328 Final Rule” ⁹ (Q&As), the proposed rule would have expressly permitted IDIs to “wrap” the text of the FDIC official digital sign to address space constraints.

⁹ “Questions and Answers Related to the FDIC's Part 328 Final Rule” (July 15, 2024), available at: https://www.fdic.gov/deposit-insurance/questions-and-answers-related-fdics-part-328-final-rule.

Discussion of Comments

Comments regarding the FDIC official digital sign design requirements were mixed, with commenters supporting or opposing certain proposed amendments, and others recommending additional changes. Several commenters expressed agreement with the digital sign design amendments proposed in the NPR. Others disagreed with the NPR's approach, with one commenter arguing that consumers derive confidence from the consistency of the FDIC's signage, which would be undermined by providing flexibility in its display. Another commenter suggested that defining a range of acceptable hexadecimal color codes and minimum font sizes would provide clarity and certainty to IDIs regarding whether they have satisfied the rule's requirements. Commenters suggested alternative changes, including providing illustrative examples of permitted digital sign designs, providing a standardized—but optional—official digital sign, and allowing IDIs the flexibility to amend the text of the official digital sign.

Final Rule

The final rule adopts the NPR's amendments as proposed with respect to the design of the FDIC official digital sign. The final rule requires that the text of the official digital sign be navy blue or black but does not mandate specific color codes. Like the proposed rule, the final rule also requires IDIs to use Source Sans Pro Web or any other similar font. These changes are intended to give IDIs sufficient flexibility to exercise reasonable judgment in order to accommodate technical limitations (e.g., space constraints, font availability, and color options for “navy blue”). In addition, the FDIC will continue to provide a standardized—but optional—digital official sign to IDIs via FDICconnect.

B. Display of FDIC Official Digital Sign and Other Signage Requirements for IDIs' Digital Deposit-Taking Channels

1. FDIC Official Digital Sign Requirements for Digital Deposit-Taking Channels

Proposed Rule

Section 328.5(d) requires IDIs to display the FDIC official digital sign on an IDI's digital deposit-taking channel's initial page or homepage of the website or application; landing or login pages; and pages where a customer may transact with deposits. Following the adoption of that provision as part of the 2023 Final Rule, IDIs raised questions and concerns with implementing these requirements, particularly with respect to “landing pages” and “pages where a customer may transact with deposits.” In response, the NPR included proposed amendments to 12 CFR 328.5(d) that would have focused the display of the FDIC official digital sign on specific pages and screens that are most relevant to consumers. First, because the term “landing page” may be viewed as duplicative of “login page,” the NPR proposed removing the requirement to display the FDIC official digital sign on an IDI's “landing page” while retaining the requirement for IDIs to display the FDIC official digital sign on the “login page” of an IDI's digital deposit-taking channel. Next, the NPR proposed removing the requirement to display the FDIC official digital sign on “pages where the customer may transact with deposits,” and, instead, proposed requiring IDIs to display the FDIC official digital sign on the digital deposit-taking channels' page or screen where a consumer initiates a deposit account opening.

Discussion of Comments

Several commenters agreed with the NPR's proposal to remove the requirement that the digital sign be displayed on “pages where the customer may transact with deposits.” Regarding the proposed requirement to display signage on the page or screen where a consumer initiates a deposit account opening, some commenters suggested that the FDIC clarify that signage would only be required on the first page of a multi-page account opening process. Another commenter expressed disagreement with the proposed changes, suggesting that the FDIC official digital sign should be required any time a deposit is made. This commenter also suggested that the FDIC should prohibit IDIs from featuring insured and uninsured products on the same page, in part to ensure that the accompanying signage is not misleading to consumers.

One commenter supported the proposed removal of the requirement to display the FDIC official digital sign on landing pages and suggested that the FDIC eliminate the requirement to display the official digital sign altogether. The commenter said that the presence of the digital sign on pages where IDIs also provide information about products that are not FDIC-insured could confuse consumers. Another commenter suggested that the FDIC limit the requirement to pages or screens solely dedicated to insured deposit products.

Final Rule

The final rule adopts the NPR's proposed changes to the display of the FDIC official digital sign on digital deposit-taking channels and explicitly provides that the sign is required only on the first page or screen of the deposit account opening process. Specifically, under the final rule, IDIs are required to display the FDIC official digital sign clearly, continuously, and conspicuously on the (1) initial page or homepage of the website or application; (2) login page; and (3) page or screen where the consumer first initiates a deposit account opening.

The final rule ensures that signage appears where it is most valuable to consumers without requiring the repetitive display of the official digital sign on successive pages or screens. Importantly, the rule does not prohibit the inclusion of uninsured products on pages bearing the FDIC official digital sign. The FDIC's regulations prohibiting deposit insurance misrepresentations, including misrepresentations using FDIC-Associated Images such as the FDIC official digital sign,¹⁰ provide sufficient safeguards against such misrepresentations or confusion that may occur if the FDIC official digital sign is displayed on pages that include uninsured products.

¹⁰ See 12 CFR 328.102(a)(2), (a)(3)(i) through (ii).

2. Static Non-Deposit Signage Requirements for Digital Deposit-Taking Channels

Proposed Rule

Section 328.5(g)(1) requires IDIs to clearly, continuously, and conspicuously display non-deposit signage “on each page relating to non-deposit products” that indicates that non-deposit products are not insured by the FDIC, are not deposits, and may lose value.

To address questions and concerns raised regarding what would be considered a page “relating” to non-deposit products and whether this term includes pages and screens with incidental references to non-deposit products (e.g., homepages or navigation menus or tabs), the NPR proposed requiring the display of non-deposit signage only on pages and screens that are primarily dedicated to one or more non-deposit products. The NPR would have clarified that IDIs would not need to display non-deposit signage on pages or screens with incidental references to non-deposit products, such as the homepage or on a navigation menu that references or links to non-deposit product pages.

Discussion of Comments

In general, commenters supported the NPR's proposed requirement that non-deposit signage only be required on pages and screens that are primarily dedicated to one or more non-deposit products. Two commenters, however, requested that the FDIC provide examples of pages or screens that require non-deposit signage as a result of being “primarily dedicated” to non-deposit products.

Commenters requested clarification regarding how 12 CFR part 328's non-deposit signage requirements interact with other regulatory disclosure obligations. One commenter suggested that the FDIC add an exception such that non-deposit digital signage would not be required on digital channels that align with the Interagency Statement on Retail Sales of Nondeposit Investment Products (interagency guidance).¹¹ Another commenter suggested that the FDIC's non-deposit signage requirements for digital deposit-taking channels should be eliminated entirely, as existing guidance and regulations already require similar disclosures alongside statements regarding securities, investment products, and insurance products. Specifically, this commenter pointed to requirements imposed by the interagency guidance, the Financial Industry Regulatory Authority (FINRA) Rule 3160, and the insurance product regulations issued pursuant to 12 U.S.C. 1831x.¹²

¹¹ See FIL-9-1994 (Feb. 15, 1994), available at https://www.fdic.gov/news/financial-institution-letters/1994/interagency-statement-retail-sales-nondeposit-investment.

¹² See 12 CFR parts 14 and 343.

Final Rule

The final rule adopts the NPR's changes to static non-deposit signage requirements on digital deposit-taking channels with additional revisions. The NPR proposed that the requirement to display static non-deposit signage apply to an IDI's digital deposit-taking channel that “offers the ability to make deposits electronically and provides access to deposits and one or more non-deposit products[.]” Recognizing that an IDI's digital deposit-taking channels may also advertise or provide information about non-deposit products and include a weblink to a third-party's website or mobile application—where the customer can then open or transact with a non-deposit product—the final rule adopts language to incorporate this concept. Specifically, the requirement to display non-deposit signage applies to digital deposit-taking channels that offer customers the ability to make deposits electronically, provide customers access to deposits, and advertise, provide information about, or access to non-deposit products.

The final rule also adopts a clearer, more specific “primarily dedicated” standard for the pages of an IDI's digital deposit-taking channel on which non-deposit signage is required. The final rule states that IDIs must clearly, continuously, and conspicuously display non-deposit signage on any page that is primarily dedicated to advertising or providing information about, or access to, non-deposit products. On such pages, IDIs must clearly, continuously, and conspicuously display non-deposit signage indicating that non-deposit products are not insured by the FDIC; are not deposits; and may lose value.

Scope of Static Non-Deposit Signage Requirements for Digital Deposit-Taking Channels

The amended scope of the non-deposit signage requirement is intended to recognize that, although graphics and links concerning non-deposit products may appear on a variety of IDI web pages, the range of pages that are primarily dedicated to advertising or providing information about, or access to, non-deposit products may be much narrower. An IDI's homepage—typically geared toward general banking services, even if it includes limited graphics and links that allow customers to access pages with non-deposit products—would not meet this standard. Instead, pages on an IDI's digital deposit-taking channel where the primary focus of the content is marketing or providing information about non-deposit products (such as pages that are accessed by clicking “Investing” or “Wealth Management”) will tend to be pages covered by this standard.

Content and Manner of Placement of Non-Deposit Signage

Commenters also raised concerns that IDIs may be subject to overlapping disclosure requirements for non-deposit investment products that are similar to 12 CFR part 328's non-deposit signage requirements. There are two dimensions to these similarities: the content of required disclosures and the manner in which disclosures must be displayed.

As to content, the signage must “indicat[e] that the non-deposit products: are not insured by the FDIC; are not deposits; and may lose value.” ¹³ The FDIC has previously noted in Q&As that signage that states “Not FDIC Insured; No Bank Guarantee; May Lose Value” would meet this requirement.¹⁴ ¹⁵ As to the manner in which non-deposit signage must be displayed, the regulation's clear, continuous, and conspicuous requirement bears similarity to the display requirements that accompany other disclosure requirements, which characterize their standards in similar terms.¹⁶ If, in efforts to comply with other disclosure requirements, an IDI already continuously, clearly, and conspicuously displays non-deposit signage consistent with 12 CFR part 328, no additional changes would be required by the final rule. However, a common industry practice is to include disclosures towards the bottom of a web page, where they are generally less likely to be seen by consumers. Signage would not be displayed clearly, continuously, and conspicuously for purposes of 12 CFR part 328 if it appears at the bottom of a web page, in very small text size.

¹³ See 12 CFR 328.4(d) and 328.5(g)(1).

¹⁴ “Questions and Answers Related to the FDIC's Part 328 Final Rule” (July 15, 2024), available at: https://www.fdic.gov/deposit-insurance/questions-and-answers-related-fdics-part-328-final-rule.

¹⁵ The requirement would also be met by signage that includes the statements identified in 12 CFR 343.40(c)(5) (“(i) `NOT A DEPOSIT'; (ii) `NOT FDIC-INSURED'; (iii) `NOT INSURED BY ANY FEDERAL GOVERNMENT AGENCY'; (iv) `NOT GUARANTEED BY THE INSTITUTION'; and (v) `MAY GO DOWN IN VALUE' ”) or in FINRA Rule 3160(a)(3)(A) (“(i) not insured by the Federal Deposit Insurance Corporation (`FDIC'); (ii) not deposits or other obligations of the financial institution and are not guaranteed by the financial institution; and (iii) subject to investment risks, including possible loss of the principal invested.”), as those provisions appear as of the date of this publication.

¹⁶ For example, the FDIC's regulations on Consumer Protection in Sales of Insurance require disclosures to be “conspicuous, simple, direct, readily understandable, and designed to call attention to the nature and significance of the information provided.” See 12 CFR 343.40(c)(5).

The FDIC recognizes the variability of IDI web pages and understands that the specific location in which to place the non-deposit signage on a web page that would be considered clear and conspicuous depends on the design of the specific web page. As a result, the final rule provides IDIs flexibility in the placement of the non-deposit signage. Signage appearing towards the bottom of a web page would meet the standard in 12 CFR part 328 so long as the text is displayed more prominently than footnotes. For example, if the non-deposit signage is placed in a text box, or displayed in larger or bolded font, relative to the smallest text on the page, it would be sufficiently clear and conspicuous to meet the standard, notwithstanding its placement towards the bottom of a web page.

3. Examples of Clear, Continuous, and Conspicuous Display

Proposed Rule

The NPR did not propose changes to the requirement that the signage must be displayed clearly, continuously, and conspicuously. However, to provide IDIs with additional clarification about meeting this display standard, the proposed rule provided a non-exhaustive list of examples of various placements of the FDIC official digital sign and non-deposit signage that would meet the clear, continuous, and conspicuous standard for IDIs' digital deposit-taking channels.

Discussion of Comments

In general, commenters sought further clarity on the “clearly, continuously, and conspicuously” standard. One commenter stated that, with respect to login pages for mobile applications, the signage requirement should be clarified to expressly state whether the digital sign is required to be displayed “near the top of the page.” Another commenter requested additional guidance on the application of the clear, continuous, and conspicuous standard to mobile applications and web designs. This commenter also stated that prescriptive requirements about where on a page or screen signage must be displayed may confuse customers by leading to cluttered pages or situations where both the FDIC official digital sign and non-deposit signage are on the same page.

Final Rule

The final rule generally adopts the NPR's examples of clear, continuous, and conspicuous signage with certain changes. The NPR proposed four examples at 12 CFR 328.5(e). The final rule adopts the first three of those examples as proposed. The fourth example illustrated that non-deposit signage would meet the standard if placed “[on] a page on an insured depository institution's website promoting, for example, annuities available for purchase, with non-deposit signage appearing towards the bottom of a promotional text or graphic in a size generally consistent with other text on the page.” As noted above, it is a common industry practice to include disclosures towards the bottom of a web page, as opposed to near promotional text or graphics themselves. In order to provide a clearer and more practical example, the final rule revises this example to state that non-deposit signage placed towards the bottom of a page that distinguishes the text from the smallest text on the page by using bold or larger font, or surrounding the disclosure with a text box, would generally be considered to be clear and conspicuous.

The final rule provides examples that are broad enough to recognize both the wide variety of content arrangements and page layouts on IDI platforms and the potential that those arrangements and layouts will change over time. Ultimately, whether signage is clear, continuous, and conspicuous must be based on the appearance of signage in relation to other content on a given page or screen.

The examples provided in the final rule identify potential means of satisfying the clear, continuous, and conspicuous standard for various types of FDIC signage. Importantly, the examples do not set minimum requirements beyond what is stated in the regulatory text by, for example, mandating the placement of signage on a particular part of a web page or mobile application. The intention in providing these requested examples is to suggest means of satisfying 12 CFR part 328's requirements, not to constrain IDIs' ability to arrange required signage in the manner that best suits their digital deposit-taking channels.

In rare circumstances, both the FDIC official digital sign and non-deposit signage may appear on the same page. However, the potential for both signage requirements to apply to the same page is greatly minimized by the amendments in this rule, which reduce the number of pages on which the FDIC official digital sign and non-deposit signage must be displayed.

4. One-Time Notification for Bank Customers Related to Third-Party Non-Deposit Products

Proposed Rule

Section 328.5(g)(2) requires IDIs to display a one-time notification when a bank customer who is logged into an IDI's digital deposit-taking channel attempts to access non-deposit products through a hyperlink (or similar weblinking feature) to a non-bank third-party platform. The one-time notification must clearly and conspicuously indicate that the non-deposit products: are not insured by the FDIC; are not deposits; and may lose value. IDIs may permit their customers to access the third party's platform only after such customers acted to dismiss the notification.

To address operational challenges in implementing the one-time notification requirement, as well as concerns that the notification would be disruptive and degrade the user experience for IDI customers, the NPR proposed giving IDIs additional flexibility with respect to the one-time notification requirement. Specifically, under the proposed rule, IDIs would have two options with respect to the dismissal of the notification, such that the notification could be dismissed by an act of the customer or dismissed automatically after the customer has been provided a reasonable opportunity—constituting at least three seconds—to read the content.

Consistent with prior interpretations,¹⁷ the NPR's preamble noted that affiliated entities are viewed as “third parties” for purposes of the one-time notification requirement. As such, the NPR preamble stated that IDIs would be required to display the one-time notification when customers access affiliated third-party non-deposit products when leaving an IDI's digital deposit-taking channel. Finally, the NPR would have made non-substantive organizational changes to the regulatory text of the one-time notification requirement.

¹⁷ See, e.g., 88 FR 37920 (June 9, 2023); FIL-9-94 (Feb. 15, 1994).

Discussion of Comments

Several commenters expressed support for the proposed amendments to the one-time notification requirement. A commenter requested that the FDIC specifically clarify whether the three-second duration applies when the notification is dismissed automatically, as opposed to when the customer actively clicks it away. One commenter stated that it did not object to requiring the one-time notification when the third-party is an affiliate of an IDI. Another commenter sought additional clarification regarding when the one-time notification requirement applies to affiliated third-party platforms.

One commenter stated that the FDIC should eliminate the one-time notification requirement, arguing that the notice is confusing and that other regulations that apply to both IDIs and third parties provide consumers with sufficient notice. Another commenter conversely stated that both the three-second duration and the consumer's ability to click the notification away would not provide consumers with sufficient notice.

Final Rule

The final rule adopts the proposed requirement to display a one-time notification for IDI customers accessing third-party non-deposit products, with organizational and streamlining changes to the regulatory text for clarity.

Commenters asked whether the one-time notification requirement would apply to IDI affiliates. As discussed in the preamble to the proposed rule, and consistent with the FDIC's prior interpretations,¹⁸ the notification must appear when a logged-in IDI customer attempts to navigate from the IDI's digital deposit-taking channel to the affiliate platform (e.g., website or application) that offers non-deposit products. Commenters also asked whether the requirement applies to customers who do not leave an IDI's digital deposit-taking channel. The notification requirement applies only when a customer leaves the IDI's digital deposit-taking channel.

¹⁸ “Questions and Answers Related to the FDIC's Part 328 Final Rule” (July 15, 2024), available at: https://www.fdic.gov/deposit-insurance/questions-and-answers-related-fdics-part-328-final-rule.

As noted, at least one commenter sought clarification on the required operation of the one-time notification. The final rule adopts the proposed change and, in response to that commenter, restructures and streamlines the proposed regulatory text to make it clear that the requirement to display the sign for a minimum of three seconds only applies if the notification disappears automatically (as opposed to if the customer manually dismisses the notification). Simply stated, an institution could enable a customer to affirmatively dismiss the notification or could permit the notification to remain on the page for a minimum of 3 seconds. In addition, IDIs could combine these two options through a notification that could either be dismissed manually by the customer or disappear automatically after a minimum of 3 seconds. The notification would not need to remain on the page for 3 seconds if the customer affirmatively dismisses the notification before 3 seconds elapses.

Although some commenters believe the one-time notification is duplicative, and one commenter stated that the notification is not sufficient to inform IDI customers, the revised requirement preserves a customer notification function, while providing IDIs with greater flexibility such that the notification does not meaningfully degrade the user experience on IDIs' digital deposit-taking channels.

5. Additional Disclosures Permitted

The NPR included language that would have expressly permitted IDIs to include additional disclosures in the one-time notification for bank customers related to third-party non-deposit products. Some commenters requested that the FDIC expand the scope of this provision to give IDIs explicit flexibility to include additional disclosures generally, and not just with respect to the one-time notification.

Since the 2023 Final Rule was adopted, the FDIC has observed IDIs that provide additional disclosures on their digital deposit-taking channels to clarify the availability of FDIC insurance on certain products.¹⁹ This demonstrates that digital deposit-taking channels can differ widely and IDIs may identify instances where additional disclosures would prevent consumer confusion or otherwise benefit consumers. The final rule expressly provides IDIs with the latitude to display additional disclosures through a new 12 CFR 328.5(f), which provides that the signage requirements for digital deposit-taking channels do not limit IDIs' ability to display signage and disclosures in addition to those required by 12 CFR part 328.

¹⁹ Examples of additional disclosures on IDIs' digital deposit-taking channels include, but are not limited to: “FDIC insurance availability on this page only applies to deposit accounts at [IDI name]” and “[IDI name] deposit products are FDIC insured.”

C. Signage Requirements for ATMs and Like Devices

1. FDIC Official Digital Sign Requirements for ATMs and Like Devices

Proposed Rule

Under 12 CFR 328.4(c), for ATMs that receive deposits and offer access to non-deposit products, IDIs are required to display the FDIC official digital sign clearly, continuously, and conspicuously on an ATM or like device's “homepage or screen and on each transaction page or screen relating to deposits.” The proposal sought to simplify compliance for IDIs and mitigate potential consumer confusion by requiring the display of the FDIC official digital sign only on the “initial screen” of an IDI's ATM or like device. The NPR preamble stated that an ATM's “initial screen” is the screen that is displayed before an IDI's customer inserts a debit card or other credentials to access the device (sometimes referred to as a “welcome screen”).

Discussion of Comments

Two commenters requested clarification on the “initial screen” requirement for ATMs and like devices. Both commenters believed that this language was susceptible to multiple interpretations. One commenter argued that the NPR could require the display of signage on a device's idle or standby screen, which IDIs often use to advertise a range of financial and non-financial products and services, rendering it potentially misleading to display the FDIC official digital sign. Both commenters suggested that the requirement be changed to require display of the FDIC sign on the screen after a customer's engagement with the device—whether the insertion of a debit card or credentials or some other action, such as pressing a button or touchscreen—that would cause the idle or standby screen to stop displaying.

Another commenter suggested that the description of an “initial screen” in the preamble to the NPR was technically unworkable. Specifically, because the proposal described an initial screen with reference to a customer's behavior, this commenter suggested that IDIs would need to assess the identity of an ATM's user and their relationship to the IDI in order to determine whether signage was required. Because the NPR preamble described the initial screen as the screen appearing before a customer presents credentials, this would be difficult or impossible to do.

Final Rule

To simplify compliance for IDIs and mitigate potential consumer confusion, the final rule generally adopts the proposed change that the FDIC official digital sign appear on the initial screen of IDIs' ATMs and like devices, with one clarification noted below. The FDIC official digital sign is no longer required on homepages or screens or on each transaction page or screen relating to deposits.

The proposal, in the preamble, described an “initial screen” as “the screen that is displayed before an IDI's customer inserts a debit card or other credentials to access the device (sometimes referred to as a `welcome screen').” In light of the variability in the types of “initial screens,” as explained by the commenters, the FDIC is providing additional precision regarding the “initial screen” requirement. Many IDIs display rotating advertisements for products, services, and events on the screens of idle ATMs, which operate as a “screen saver” prior to engagement by a user. Read literally, the preamble's description of an “initial screen” could apply to those screens. If the FDIC official digital signage appeared with such content, it may be misleading. Accordingly, the final rule includes a clarification that advertisements of this nature will not be considered initial screens for purposes of the ATM signage requirements. Whether or not a given device displays advertisements when idle, all ATMs and like devices will have at least one “initial screen” on which the FDIC official digital sign is displayed, consistent with the FDIC's goals of ensuring that consumers know when they are doing business with an IDI and that an IDI's customers are informed about the insured status of their deposits.

2. Limited Exception for Certain ATMs and Like Devices To Display Physical FDIC Official Sign

Proposed Rule

Section 328.4 provides a limited exception to the FDIC official digital sign requirement for ATMs and like devices that do not offer non-deposit products and were placed into service prior to January 1, 2025, permitting such devices to display either the FDIC official digital sign or the physical FDIC official sign.²⁰ To address questions about the scope of the physical FDIC official sign exception for existing ATMs and like devices and concerns about costs associated with updating ATMs and like devices that are already in service, the NPR would have expanded the physical sign exception to a wider range of ATMs and like devices, giving IDIs greater flexibility to display either the physical FDIC official sign or the FDIC official digital sign on those devices. Under the proposal, the physical signage exception would have been available to (1) all ATMs and like devices placed into service prior to January 1, 2027, and (2) all ATMs and like devices, regardless of when placed into service, that do not allow customers to transact with non-deposit products.

²⁰ See 12 CFR 328.4(b) and (e).

Discussion of Comments

Two commenters expressed support for the NPR's expanded exception from the digital sign requirement for ATMs and like devices placed into service before January 1, 2027, or that do not offer non-deposit products.

Final Rule

The final rule adopts the limited exception for certain ATMs to display the physical official sign as proposed, with one change. The relevant “placed into service” date the NPR proposed for the physical sign exception was January 1, 2027, which was aligned with the contemplated compliance date. Because the compliance date for this rule is April 1, 2027, that date will also serve as the “placed into service” date for the physical sign exception for ATMs and like devices. As noted, commenters did not suggest changes to the proposed exception from the digital sign requirement for ATMs and like devices.

3. Degraded or Defaced Physical FDIC Official Signs

Proposed Rule

Section 328.4(f) provides that a degraded or defaced physical FDIC official sign on ATMs and like devices would not be considered to be displayed in a clear and conspicuous manner. The NPR would have removed this provision. The NPR stated that this provision is not needed because an institution is required to clearly and conspicuously display the sign, and if the sign is not clear to consumers, the institution would not be displaying it clearly.

Discussion of Comments

A commenter noted that setting minimum standards for the condition, clarity, or conspicuousness of physical FDIC signage would create a compliance burden for IDIs, particularly community banks that have ATMs distributed across rural locations.

Final Rule

The final rule adopts the proposed deletion of section 328.4(f). As noted, this provision is unnecessary in light of an IDI's obligation to display signage clearly. Signage that is degraded or defaced to an extent that a consumer is unable to read and understand its content would not be displayed clearly. The FDIC did not receive any comments opposing this aspect of the proposal.

4. Non-Deposit Signage

Proposed Rule

Section 328.4(d) requires IDIs' ATMs that receive deposits and offer access to non-deposit products to clearly, continuously, and conspicuously display non-deposit signage “on each transaction page or screen relating to non-deposit products.” Such non-deposit signage must indicate that non-deposit products are not insured by the FDIC; are not deposits; and may lose value. In recognition of feedback that non-deposit signage requirements for ATMs and like devices are overly broad and repetitive, the NPR proposed modifying the non-deposit signage requirements for ATMs and like devices in two respects.

First, under the proposal, a narrower subset of ATMs and like devices would have been subject to the non-deposit signage requirements. While the non-deposit signage requirements presently apply to an ATM or like device that offers access to non-deposit products, the proposal would only have required non-deposit signage on ATMs or like devices that permit IDI customers to transact with one or more non-deposit products.²¹ This change would have removed ATMs and like devices from the scope of the non-deposit signage requirements if, for example, they merely permit customers to view account balances for non-deposit products. Moreover, acknowledging the technical limitations IDIs face in verifying information for customers of other financial institutions using the IDI's ATMs and like devices (referred to as “non-customers”), including whether the non-customer is accessing FDIC-insured deposit accounts or non-deposit products, the proposed rule would not have required IDIs to display non-deposit signage for pages and screens viewed by non-customers.

²¹ Under both the regulation and the proposal, to be subject to the non-deposit signage requirements, an ATM or like device must also offer access to deposits at an IDI.

Second, the NPR proposed reducing the pages and screens on which display of non-deposit signage would be required, reflecting a more focused approach. Although the regulation presently requires non-deposit signage to be displayed on each transaction page or screen relating to non-deposit products, the NPR proposed requiring that non-deposit signage appear only on the initial transaction page or initial transaction screen for a non-deposit product.

Discussion of Comments

One commenter requested additional clarity regarding whether IDIs are required to display non-deposit signage on ATMs and like devices to non-customers. As noted above, the preamble to the proposed rule acknowledged IDIs' technical limitations regarding determining whether a non-customer is accessing FDIC-insured deposit accounts or non-deposit products. To address these limitations, the proposed rule preamble stated that IDIs would be required to display non-deposit signage only “for the IDI's own customers[.]” This commenter suggested that this clarification be made in the regulatory text.

Another commenter suggested that the FDIC reconsider the screens on which ATMs and like devices must display non-deposit signage. This commenter suggested that, in practice, the first screen an ATM user engages with upon entering their credentials is a page featuring various “shortcuts” to quickly carry out transactions. Such screens could meet the “initial transaction page” standard, but inclusion of non-deposit signage on such a screen would be potentially misleading as to other shortcuts on the page. To address this, the commenter recommended that the FDIC require non-deposit signage only on ATM screens primarily dedicated to one or more non-deposit products, the same standard as the proposal set for digital deposit-taking channels.

A third commenter expressed support for the proposed changes for non-deposit signage requirements on ATMs and like devices, noting that the amendments would significantly simplify compliance for IDIs.

Final Rule

The final rule generally adopts the proposed changes, and in response to comments, includes language clarifying that the non-deposit signage requirement applies only to customers of the IDI.

Consistent with the proposal, the final rule requires IDIs to display non-deposit signage on its ATMs and like devices only for its own customers. Because technological limitations often do not provide an IDI with detailed information about the accounts with which non-customers interact at that IDI's ATM, requiring IDIs to display non-deposit signage to such users may result in the user viewing a confusing or inaccurate disclosure. To provide clarity regarding the scope of the requirement, the final rule expressly refers to an “insured depository institution's customer,” consistent with the intention that it apply solely to IDI's customers rather than all users of an ATM or like device.

The FDIC is adopting the changes as proposed regarding the screens on which the non-deposit sign must be displayed. The “initial transaction page or screen” includes the first screen displayed upon initiating a transaction with a non-deposit product. In response to concerns that the requirement might apply to pages and screens with “shortcuts,” it should be noted that a screen that presents a range of options and shortcuts, one of which is to transact with a non-deposit product, would be the screen displayed prior to, rather than upon, initiating a transaction with a non-deposit product. Under this final rule, the non-deposit signage is to be displayed instead at the time a user initiates the process of carrying out a transaction with non-deposit products.

A commenter requested that the FDIC utilize the “pages or screens primarily dedicated to one or more non-deposit products” standard for ATMs and like devices. While such a standard is suitable for digital deposit-taking channels, the FDIC believes a different approach is warranted for ATMs and like devices. Specifically, ATMs and like devices are more typically geared towards completing transactions, while digital deposit-taking channel pages contain more informational content than would appear on ATM screens.

5. Additional Disclosures Permitted

Commenters requested that the FDIC give IDIs flexibility to include additional disclosures. In response, the final rule adds a new 12 CFR 328.4(e) that states that nothing in 12 CFR 328.4, which covers ATMs and like devices, limits an IDI's ability to include additional disclosures beyond what is required by 12 CFR part 328. Since the 2023 Final Rule was adopted, the FDIC has observed IDIs that provided additional disclosures on ATMs and like devices to clarify, for example, the FDIC-insured status of an IDI or the products that are covered by FDIC insurance. The FDIC appreciates that there may be cases where disclosures otherwise not required by the final rule could prevent consumer confusion or otherwise benefit an IDI's customers regarding the availability of FDIC insurance.

D. Compliance Date

Proposed Rule

The NPR proposed a compliance date of January 1, 2027, for the amended requirements. This delayed compliance date recognized that IDIs would need time to update systems and processes to implement changes in compliance with the proposed amendments, as well as the fact that not all IDIs are currently displaying signage on their digital deposit-taking channels and ATMs and like devices consistent with the regulation.

Discussion of Comments

Some commenters stated that the NPR's proposal to set a compliance date of January 1, 2027, would not provide sufficient time for banks to implement updates in accordance with any final rule. The commenters noted that coordinating with outside vendors to update technological platforms takes time, and that many such vendors institute year-end blackout periods. Based on these considerations, some commenters suggested that a compliance date be set for 18 months following the adoption of any final rule.

In contrast, another commenter argued that setting a January 1, 2027 compliance date would be unduly far into the future, risking harm to consumers. This commenter suggested a compliance date of 6 months after adoption of the final rule. An additional commenter stated that the January 1, 2027 compliance date should be suitable, but that delays may be necessary if third-party vendors have difficulty making necessary changes.

Relatedly, several commenters suggested that compliance be examined differently for IDIs that have already implemented changes to their digital deposit-taking channels and ATMs and like devices to comply with the rule, although the FDIC delayed compliance with those requirements. These commenters asked that the final rule clarify that any entity whose platforms meet the requirements of 12 CFR 328.4 and 328.5 would be deemed to be in compliance with any amended version of those sections.

Final Rule

The final rule adopts a compliance date for the revised requirements of 12 CFR 328.4 and 328.5 of April 1, 2027. This differs slightly from the proposed date of January 1, 2027. This ensures that IDIs have at least a full year to review the revised requirements and to implement any changes necessary to ensure their platforms are in compliance with the final rule.

As noted, on November 25, 2025, the FDIC extended the compliance date for the versions of 12 CFR 328.4 and 328.5 that existed prior to this rulemaking. In light of this final rule, the January 1, 2027 compliance date set by the FDIC through the November 25, 2025 extension has been superseded. As stated above, the compliance date for the amended requirements of 12 CFR 328.4 and 328.5 being made by this final rule is April 1, 2027.

The FDIC is not deeming IDIs currently in compliance with the regulation to be in compliance with this rule. An objective of the final rule is to refine existing signage requirements to provide IDIs with greater flexibility. For the most part, IDIs that have already complied with the regulation would be in compliance with this rule. One possible exception is that this final rule expressly requires the display of the FDIC official digital sign on the deposit account opening page.²² The FDIC is choosing not to adopt a “grandfathering” approach for this one provision, which would be challenging to implement, as it would create two sets of standards indefinitely.

²² The regulation was not clear as to whether the requirement to display the FDIC official digital sign on “Pages where the customer may transact with deposits” would have required signage on deposit account opening pages.

E. Technical Amendment

Proposed Rule

In addition to proposing substantive amendments, the NPR would have made a technical amendment to 12 CFR part 328. Section 328.5(c) currently provides for a “digital symbol” that is defined as the portion of the FDIC official digital sign “consisting of `FDIC' and the one line of smaller type to the right of `FDIC'.” While this provision defining the digital symbol is located in subpart A of 12 CFR part 328, 12 CFR part 328 discusses the use of the digital symbol only in subpart B, which addresses false advertising, misrepresentation of insured status, and misuse of the FDIC's name or logo. Given that the digital symbol concept applies specifically to the context of subpart B, the proposed rule would have implemented a technical amendment to transfer the text providing for, and defining, the digital symbol to 12 CFR 328.101 of subpart B. The proposal stated that this non-substantive change would promote readability by ensuring that the definition is physically located in the relevant subpart of the regulation.

Discussion of Comments

The FDIC did not receive comments that concerned the technical amendment.

Final Rule

For the reasons discussed in the NPR, the final rule adopts the transfer of the definition of “digital symbol” from 12 CFR 328.5 to 12 CFR 328.101 as proposed and makes one additional conforming revision to update a cross-reference.

F. Other Comments

Finally, commenters offered a number of suggestions not directly related to the specific topics addressed in the NPR including, for example, translations of required signage into languages other than English, the policies and procedures required by 12 CFR 328.8, and the provisions of subpart B of 12 CFR part 328 that address false advertising, misrepresentation of insured status, and the misuse of the FDIC's name or logo. The FDIC appreciates these comments and may consider such topics in any future initiative(s).

IV. Expected Effects

The changes to 12 CFR 328.4 and 328.5 are intended to clarify the requirements for the display of the FDIC official digital sign and non-deposit signage, as well as clarify when such signage is required for ATMs and similar devices. These requirements apply to all IDIs. To the extent that some IDIs have not already implemented changes to their digital operations to comply with 12 CFR 328.4 and 328.5, the final rule reduces the number of hours spent to update their systems. The final rule also reduces the number of hours spent by IDIs to maintain ongoing compliance with 12 CFR 328.4 and 328.5. Given this decrease in burden, the changes in the final rule are not expected to result in any substantive direct costs to impacted IDIs. Instead, they are expected to generate cost savings in the form of reduced administrative effort and resource allocation. In addition, the final rule is expected to benefit IDIs' customers, who would have a more streamlined browsing experience and reduced confusion about which products are FDIC-insured when a page shows both deposit and non-deposit products.

A. Cost Savings: Implementation

The final rule is expected to benefit IDIs by reducing implementation costs, including labor and contracting expenses associated with IT system modifications, costs to upgrade hardware for ATMs and similar devices, and labor costs to make changes to internal compliance policies and procedures. The cost savings that would result from the final rule vary by IDI depending on the size and complexity of an IDI's digital deposit-taking channels, the number of an IDI's ATMs and like devices, and the degree to which an IDI relies on third-party service providers to provide these channels, ATMs or like devices. The FDIC does not have the information necessary to quantify all cost savings associated with the final rule. However, the FDIC believes that these benefits will be material for certain IDIs because stakeholders have, as previously discussed, identified related challenges with adopting certain provisions of 12 CFR part 328.

Although the FDIC cannot quantify all cost savings associated with the final rule, it has quantified certain estimated cost savings for IDIs associated with the changes to recordkeeping, reporting, and disclosure requirements for digital signage and non-deposit signage obligations. The FDIC recognizes that the cost estimates in the 2023 Final Rule may have understated the actual costs, and thus the estimated cost savings in this final rule may likewise understate the actual cost savings, but the FDIC is using the best estimates it has available.

As of September 30, 2025, 4,388 IDIs are subject to 12 CFR part 328.²³ As previously discussed, the final rule poses two principal effects for affected IDIs. First, the final rule reduces the number of digital screens or pages on which the FDIC official digital sign must appear. Second, the final rule narrows certain non-deposit signage requirements. The FDIC does not have data identifying the number of IDIs that maintain digital deposit-taking channels, including websites or mobile applications; therefore, for purposes of this analysis, the FDIC assumes that all IDIs would experience cost savings resulting from the final rule. Based on these changes, the FDIC estimates an average reduction of 19 hours per IDI for implementation-related recordkeeping, reporting, and disclosure activities alone.²⁴ At an estimated average hourly labor cost of $123,²⁵ the final rule would result in cost savings of $2,330 per IDI, on average, in the implementation period prior to the compliance deadline for the final rule. Across 4,388 IDIs, the estimated effect is more than $10.2 million in implementation cost savings.²⁶

²³ FFIEC Reports of Condition and Income (Call Reports), September 30, 2025.

²⁴ The 19 hours represent a 32-percent time savings from the 60 hours of implementation burden estimated in the 2023 Final Rule.

²⁵ To estimate the average hourly labor cost, the FDIC assumes that the labor used to comply with the final rule would be performed in part by Managers/Executives (at $158.33 per hour, 36 percent), Clerical Workers (at $42.33 per hour, 24 percent), Lawyers (at $178.57 per hour, 17 percent), IT professionals (at $115.86 per hour, 18 percent), and Compliance Officers (at $80.32 per hour, 4 percent). The FDIC uses the 75th percentile hourly wages reported by the Bureau of Labor Statistics (BLS) National Industry-Specific Occupational Employment and Wage Estimates (OEWS) for the relevant occupations in the Depository Credit Intermediation sector as of May 2024. These wages were increased by 53 and 5 percent to account for non-wage compensation and wage inflation between May 2024 and September 2025.

²⁶ 19 hours × $122.62 per hour × 4,388 institutions = $10,223,075.

Although the compliance date for the final rule's amendments to 12 CFR 328.4 and 328.5 is forthcoming, some IDIs may have already taken steps to implement the 2023 Final Rule in anticipation of its original compliance deadline of January 1, 2025, or its previously revised compliance deadline of March 1, 2026. As a result, these IDIs may not realize full cost savings from the final rule changes. In some cases, they may even incur voluntary costs to reverse or modify signage or systems that are no longer required under the final rule. It is also possible that such IDIs will choose to maintain compliance with the broader requirements in the 2023 Final Rule and therefore avoid any reversal costs. For purposes of this analysis, the FDIC assumes that all IDIs would experience cost savings generated by the final rule, and estimates the average cost savings for an IDI that has not yet taken steps to comply with current requirements under 12 CFR 328.4 and 328.5.

While the quantified implementation cost savings may be relatively small, the unquantified implementation cost savings are likely to be material for some IDIs.

B. Cost Savings: Ongoing Compliance

In addition to reducing implementation burden in the period leading to the amended compliance date, the final rule generates ongoing compliance cost savings in subsequent years. IDIs typically incur recurring compliance costs to maintain, review, and update their signage and related systems in accordance with regulatory requirements. Further, ongoing compliance with FDIC signage requirements can be a factor in costs for third-party service agreements, hardware replacement, as well as validation and testing of service delivery channels. The FDIC does not have the information necessary to quantify all ongoing cost savings associated with the final rule. However, the final rule reduces the scope of these ongoing activities and thereby generates associated cost savings for all affected IDIs. As noted above, these savings will vary across IDIs, based on the size and complexity of their operations.

For purposes of this analysis, the FDIC has quantified ongoing cost savings for all IDIs associated with the changes to recordkeeping, reporting, and disclosure requirements for digital signage and non-deposit signage obligations only. The FDIC categorizes IDIs by asset size as a proxy for the complexity of digital operations, consistent with the methodology used in the 2023 Final Rule: IDIs with less than $10 billion in assets and those with $10 billion or more. According to the latest Call Report data, there are 4,231 IDIs in the smaller IDI group and 157 in the larger.²⁷ The FDIC estimates that the final rule would reduce ongoing annual recordkeeping, reporting, and disclosure compliance labor hours for smaller IDIs by an average time savings of 3 hours and 10 minutes. For larger IDIs, the estimated annual time savings is 6 hours and 20 minutes.²⁸

²⁷ FFIEC Call Reports, September 30, 2025.

²⁸ The estimated time savings of 3 hours and 10 minutes for smaller IDIs and 6 hours and 20 minutes for larger IDIs are approximately 32 percent of the corresponding burdens estimated in the 2023 Final Rule and are proportionally in line with the estimated time savings for the implementation cost.

Using the same estimated average hourly labor cost of $123 as above, the estimated ongoing annual cost savings are approximately $388 per small IDI and $777 per large IDI, on average, for a total annual cost savings of approximately $1.64 million for smaller IDIs and approximately $122 thousand for larger IDIs. This yields a total estimated ongoing annual cost savings associated with changes to recordkeeping, reporting, and disclosure requirements of approximately $1.76 million across all FDIC-insured depository institutions.

C. Intangible Benefits and Costs

The changes in the final rule may also result in indirect or intangible effects that are more difficult to quantify.

In addition, the final rule is expected to benefit consumers by improving their experience with IDIs' digital channels. For example, the changes allow IDIs to tailor digital signage placement to better meet the needs of the customer, resulting in more targeted and less duplicative disclosures. The elimination of the notification dismissal requirement may therefore reduce interruptions to the browsing experience. The removal of the requirement to display the FDIC official digital sign on “pages where the customer may transact with deposits” may eliminate consumer confusion about which products are FDIC-insured when a page shows both deposit and non-deposit products. Overall, these changes would lead to a more streamlined and less cluttered customer experience. The FDIC does not have the data available to quantify these effects but believes the final rule would provide substantial benefits to consumers of IDIs' digital channels.

At the same time, the changes may introduce some intangible costs. For example, reducing signage requirements could result in less visible or less consistent disclosure of deposit insurance coverage. IDIs that have already implemented changes to their digital operations to comply with 12 CFR part 328 may incur some costs to modify their systems in response to the final rule. More flexibility in how different institutions implement the requirements could potentially lead to greater variability in customer experience across the industry. The FDIC believes these effects will be minimal; under the final rule, 12 CFR part 328 would still require IDIs' digital operations to provide clarity to consumers about the extent to which or the manner in which products are insured by the FDIC.

Finally, the timing of compliance may also influence intangible effects. Given the extension of the compliance date, some institutions would benefit from increased flexibility in integrating the new requirements into ongoing system updates or signage cycles. However, a longer transition period may also lead to temporary inconsistencies in signage across institutions, which could affect customer experience to a limited extent.

V. Alternatives Considered

The FDIC has considered several alternatives to the final rule that could meet the objectives of this rulemaking, including proposals suggested by commenters in response to the 2023 Final Rule and the NPR. For the reasons described, the FDIC views the final rule as the most appropriate and effective means of achieving its policy objectives with respect to 12 CFR part 328.

The FDIC considered not promulgating any regulatory action to amend 12 CFR part 328. However, as previously discussed, the FDIC has identified challenges with, and potential improvements for, the FDIC's sign and advertisement regulations under subpart A of 12 CFR part 328. As discussed in section IV, Expected Effects, of this document, the final rule has clear, quantifiable cost savings, among other benefits, over this no-action alternative with minimal costs to IDIs and their customers.

The FDIC also considered eliminating the regulations in 12 CFR 328.4 and 328.5 to remove digital signage requirements entirely. However, as described in the 2023 Final Rule, the FDIC believes there are benefits to updates to 12 CFR part 328 to address potential uncertainties that could dilute or undermine the confidence that underpins banks and our nation's broader financial system. The final rule would advance the 2023 Final Rule's objective to ensure that consumers, businesses, and other entities better understand when their funds are protected by FDIC deposit insurance, while increasing the flexibility for IDIs in the marketing of their products and services.

VI. Regulatory Analysis

A. Regulatory Flexibility Act

The Regulatory Flexibility Act (RFA) generally requires an agency, in connection with a final rule, to prepare and make available for public comment a final regulatory flexibility analysis that describes the impact of the final rule on small entities.²⁹ However, a final regulatory flexibility analysis is not required if the agency certifies that the final rule will not, if promulgated, have a significant economic impact on a substantial number of small entities. The Small Business Administration (SBA) has defined “small entities” to include banking organizations with total assets of less than or equal to $850 million.³⁰ Generally, the FDIC considers a significant economic impact to be a quantified effect in excess of 5 percent of total annual salaries and benefits or 2.5 percent of total noninterest expenses. The FDIC believes that effects in excess of one or more of these thresholds typically represent significant economic impacts for FDIC-supervised institutions. For the reasons described below, the FDIC certifies that the final rule will not have a significant economic impact on a substantial number of small entities.

²⁹ 5 U.S.C. 601 et seq.

³⁰ The SBA defines a small banking organization as having $850 million or less in assets, where an organization's “assets are determined by averaging the assets reported on its four quarterly financial statements for the preceding year.” See 13 CFR 121.201 (as amended by 87 FR 69118, effective December 19, 2022). In its determination, the “SBA counts the receipts, employees, or other measure of size of the concern whose size is at issue and all of its domestic and foreign affiliates.” See 13 CFR 121.103. Following these regulations, the FDIC uses an insured depository institution's affiliated and acquired assets, averaged over the preceding four quarters, to determine whether the insured depository institution is “small” for the purposes of RFA.

As described in section IV, Expected Effects, of this document, the final rule affects all institutions whose deposits are insured by the FDIC. According to recent Call Reports, there are 4,388 such IDIs.³¹ Of these, approximately 3,062 are considered small entities for the purposes of the RFA (small entity IDIs).³²

³¹ FFIEC Call Reports, September 30, 2025.

³² Id.

As a result of the final rule, IDIs with less than $10 billion in assets ³³ would spend an estimated 19 fewer hours, on average, to update their digital operations in the first period in order to comply with the recordkeeping, reporting, and disclosure provision of the 2023 Final Rule. At average labor costs of $123 per hour,³⁴ the estimated first-year cost savings would be approximately $2,330 per IDI, or approximately $7.1 million for all small entity IDIs—less than a tenth of a percent of annual salaries and benefits for these 3,062 entities in aggregate. At the individual IDI level, the estimated first-year cost savings would not exceed even one percent of the total annual salaries and benefits for any small entity IDI. For subsequent years, the estimated costs savings are even smaller: an IDI with less than $10 billion in assets is expected to spend 3 hours and 10 minutes less (equivalent to $388) per year,³⁵ on average, to comply with the recordkeeping, reporting, and disclosure provisions within 12 CFR part 328 as a result of the final rule. Thus, the final rule is unlikely to significantly impact any small entity IDI.

³³ All 3,062 small entity IDIs have less than $10 billion in assets.

³⁴ To estimate the average hourly labor cost, the FDIC assumes that the labor used to comply with the final rule would be performed in part by Managers/Executives (at $158.33 per hour, 36 percent), Clerical Workers (at $42.33 per hour, 24 percent), Lawyers (at $178.57 per hour, 17 percent), IT professionals (at $115.86 per hour, 18 percent), and Compliance Officers (at $80.32 per hour, 4 percent). The FDIC uses the 75th percentile hourly wages reported by the Bureau of Labor Statistics (BLS) National Industry-Specific Occupational Employment and Wage Estimates (OEWS) for the relevant occupations in the Depository Credit Intermediation sector as of May 2024. These wages were increased by 53 and 5 percent to account for non-wage compensation and wage inflation between May 2024 and September 2025.

³⁵ $388 per year = 3:10 hours × $123 per hour.

The final rule would also provide benefits other than the cost savings described above, including greater flexibility in signage design and placement, improved customer experience, and reduced staff time allocated to maintaining signage compliance across multiple channels and devices. As noted in section IV, Expected Effects, of this document, the FDIC is unable to quantify these effects. However, the FDIC believes these effects, while potentially substantial for certain IDIs, are likely to be minimal in the aggregate.

Given the expected effects of the final rule described above, the FDIC certifies that the final rule would not have a significant economic impact on a substantial number of small entities.

B. Paperwork Reduction Act

Certain provisions of the final rule contain “collections of information” within the meaning of the Paperwork Reduction Act (PRA) of 1995.³⁶ In accordance with the requirements of the PRA, the FDIC may not conduct or sponsor, and the respondent is not required to respond to, an information collection unless it displays a currently valid Office of Management and Budget (OMB) control number. The FDIC will submit the proposed revisions to these information collections to OMB for review under section 3507(d) of the PRA ³⁷ and 5 CFR 1320.11 of the OMB's implementing regulations.³⁸ The FDIC is proposing to extend for three years, with revision, these information collections.

³⁶ 44 U.S.C. 3501 et seq.

³⁷ 44 U.S.C. 3507(d).

³⁸ 5 CFR 1320.11.

Title of Information Collection: FDIC's Official Sign and Advertising Requirements, False Advertising, Misrepresentation of Insured Status, and Misuse of the FDIC's Name or Logo.

OMB Number: 3064-0219.

Frequency of Response: Periodic—see table below.

Affected Public: Businesses or other for-profit.

Respondents: Any FDIC-insured depository institution and persons that provide deposit-related services to insured depository institutions or offer insured depository institution's deposit-related products or services to other parties.

Current Actions: The final rule would revise the currently approved information collection to streamline the requirements to display the FDIC official digital sign and the display of non-deposit signage to certain pages.

These changes are reflected in information collections 3-5 on the table below.³⁹ Based on the latest available data, the estimated annual burden associated with all the information collections would decrease.

³⁹ Details on how each line item of the table was calculated can be found in the PRA section of the 2023 Final Rule.

Summary of Estimated Annual PRA Burden
Information collection (obligation to respond) | Type of burden (frequency of response) | Number of respondents | Average number of responses per respondent | Average time per response (HH:MM) | Annual burden (hours)
1. Signs within Institution Premises—Banks <$10B, 12 CFR 328.3 (Mandatory) | Third-Party Disclosure (Annual) | 4,231 | 8 | 1:00 | 33,848
2. Signs within Institution Premises—Banks >= $10B, 12 CFR 328.3 (Mandatory) | Third-Party Disclosure (Annual) | 157 | 276 | 2:00 | 86,664
3. Signage for ATMs and Digital Deposit-taking Channels—Implementation, 12 CFR 328.4 and 328.5 (Mandatory) | Third-Party Disclosure (Annual) | 4,388 | 0.333 | 41:00 | 59,901
4. Signage for ATMs and Digital Deposit-taking Channels—Banks <$10B—Ongoing, 12 CFR 328.4 and 328.5 (Mandatory) | Third-Party Disclosure (Annual) | 4,231 | 0.667 | 6:50 | 19,284
5. Signage for ATMs and Digital Deposit-taking Channels—Banks >= $10B—Ongoing, 12 CFR 328.4 and 328.5 (Mandatory) | Third-Party Disclosure (Annual) | 157 | 0.667 | 13:40 | 1,435
6. Policies and Procedures—Implementation, 12 CFR 328.8 (Mandatory) | Recordkeeping (Annual) | 4,388 | 0.333 | 80:00 | 116,880
7. Policies and Procedures—Ongoing, 12 CFR 328.8 (Mandatory) | Recordkeeping (Annual) | 4,388 | 0.667 | 12:00 | 35,124
8. Insured Depository Institution Relationships—Implementation 12 CFR 328.102(b)(5) (Mandatory) | Third-Party Disclosure (Annual) | 1,500 | 0.333 | 2:30 | 1,250
9. Insured Depository Institution Relationships—Ongoing 12 CFR 328.102(b)(5) (Mandatory) | Third-Party Disclosure (Annual) | 1,500 | 0.667 | 1:00 | 1,001
10. Request for Consent to Use Non-English Language Advertising Statement—12 CFR 328.6(f) (Required to Obtain or Retain a Benefit) | Reporting (On occasion) | 1 | 1 | 2:00 | 2
Total Annual Burden (Hours) |  |  |  |  | 355,38
Source: FDIC.
Note: The annual burden estimate for a given collection is calculated in two steps. First, the total number of annual responses is calculated as the whole number closest to the product of the annual number of respondents and the annual number of responses per respondent. Then, the total number of annual responses is multiplied by the time per response and rounded to the nearest hour to obtain the estimated annual burden for that collection. This rounding ensures the annual burden hours in the table are consistent with the values recorded in the OMB's regulatory tracking system.

C. Plain Language

Section 722 of the Gramm-Leach Bliley Act ³² requires the Federal banking agencies to use plain language in all proposed and final rules published in the Federal Register after January 1, 2000. FDIC staff believes the final rule is presented in a simple and straightforward manner. The FDIC invited comments regarding the use of plain language in the proposed rule but did not receive any comments on this topic.

D. Riegle Community Development and Regulatory Improvement Act of 1994

Pursuant to section 302(a) of the Riegle Community Development and Regulatory Improvement Act of 1994 (RCDRIA),³³ in determining the effective date and administrative compliance requirements for new regulations that impose additional reporting, disclosure, or other requirements on IDIs, each Federal banking agency must consider, consistent with principles of safety and soundness and the public interest, any administrative burdens that such regulations would place on affected depository institutions, including small depository institutions, and customers of depository institutions, as well as the benefits of such regulations. In addition, section 302(b) of the RCDRIA requires new regulations and amendments to regulations that impose additional reporting, disclosures, or other new requirements on IDIs generally to take effect on the first day of a calendar quarter that begins on or after the date on which the regulations are published in final form. The final rule provides IDIs with greater flexibility and clarity in the display of FDIC signage on digital deposit-taking channels and ATMs and like devices. To ensure IDIs have ample time to implement the streamlined requirements, the compliance date for the rule will be April 1, 2027.

E. Executive Order 12866

Executive Order 12866, as amended, provides that the Office of Information and Regulatory Affairs (OIRA) will review all “significant regulatory actions” as defined therein. The FDIC has submitted this regulatory act to OIRA for review. OIRA has determined that this final rule is not a “significant regulatory action” for purposes of Executive Order 12866. For more information on the analysis conducted in connection with Executive Order 12866, refer to other sections of this SUPPLEMENTARY INFORMATION.

F. Executive Order 14192

Executive Order 14192 directs agencies, unless prohibited by law, to identify at least 10 existing regulations to be repealed when the agency publicly proposes for notice and comment or otherwise promulgates a new regulation with total costs greater than zero. Executive Order 14192 further requires that new incremental costs associated with new regulations shall, to the extent permitted by law, be offset by the elimination of existing costs associated with at least 10 prior regulations. An Executive Order 14192 deregulatory action is an action that has been finalized and has total costs less than zero. This action is considered an Executive Order 14192 deregulatory action. The FDIC estimates that this rule generates $2.0 million in annualized cost savings at a 7-percent discount rate, discounted relative to year 2024, over a perpetual time horizon.

G. Congressional Review Act

Pursuant to the Congressional Review Act, OMB makes a determination as to whether a final rule constitutes a ”major rule,” defined in the Congressional Review Act as any rule that the Administrator of OIRA finds has resulted in or is likely to result in (A) an annual effect on the economy of $100,000,000 or more; (B) a major increase in costs or prices for consumers, individual industries, Federal, State, or local government agencies or geographic regions; or (C) significant adverse effects on competition, employment, investment, productivity, innovation, or on the ability of United States-based enterprises to compete with foreign-based enterprises in domestic and export markets.⁴⁰ If a rule is determined to be a “major rule” by OMB, the Congressional Review Act generally provides that the rule may not take effect until at least 60 days following its publication.⁴¹ If a rule is not a “major rule,” the rule may take effect after the Federal agency submits to Congress a report required under the Congressional Review Act. OMB has determined the final rule is not a major rule under the Congressional Review Act.

⁴⁰ 5 U.S.C. 804(2).

⁴¹ 5 U.S.C. 801(a)(3).

List of Subjects in 12 CFR Part 328

Advertising, Bank deposit insurance, Savings associations, Signs and symbols.

Authority and Issuance

For the reasons stated in the preamble, the Federal Deposit Insurance Corporation amends part 328 of title 12 of the Code of Federal Regulations as follows:

PART 328—FDIC OFFICIAL SIGNS, ADVERTISEMENT OF MEMBERSHIP, FALSE ADVERTISING, MISREPRESENTATION OF INSURED STATUS, AND MISUSE OF THE FDIC'S LOGO

1. The authority citation for part 328 continues to read as follows:

Authority: 12 U.S.C. 1818, 1819 (Tenth), 1820(c), 1828(a).

2. Revise §§ 328.4 and 328.5 to read as follows:

§ 328.4 Signs for automated teller machines (ATMs) and like devices.

(a) Scope. This section governs signage for insured depository institutions' ATMs and other remote electronic facilities (referred to as “like devices”) that receive deposits. For purpose of this section, ATMs and like devices are not digital deposit-taking channels.

(b) Display of FDIC official digital sign. Except as provided in paragraph (c) of this section, an insured depository institution must clearly, continuously, and conspicuously display the FDIC official digital sign specified in § 328.5(b) on the initial screen of the insured depository institution's ATMs and like devices. For purposes of this paragraph (b), a screen saver or an advertisement for products, services, or events on the screen of an idle ATM is not considered the “initial screen.”

(c) Limited exception for certain ATMs to display physical official sign. The physical official sign as described in § 328.2 may be displayed in lieu of the FDIC official digital sign as described in § 328.5(b), for:

(1) ATMs and like devices placed into service after April 1, 2027, that do not permit an insured depository institution's customer to transact with a non-deposit product; and

(2) ATMs and like devices placed into service on or before April 1, 2027.

(d) Non-deposit signage. An insured depository institution's ATM and like device that both receive deposits and permit the insured depository institution's customer to transact with one or more non-deposit products must clearly, continuously, and conspicuously display signage indicating that the non-deposit products: are not insured by the FDIC; are not deposits; and may lose value. This signage must be displayed on the first page or screen displayed upon initiating a transaction with a non-deposit product.

(e) Additional disclosures permitted. This section does not limit an insured depository institution's ability to include additional disclosures.

§ 328.5 Signs for digital deposit-taking channels.

(a) Scope. This section governs signage for digital deposit-taking channels, including insured depository institutions' websites and web-based or mobile applications, that offer the ability to make deposits electronically and provide access to deposits at insured depository institutions. This section does not apply to ATMs and like devices as described in § 328.4.

(b) Design. In general, the “FDIC” in the FDIC official digital sign shall be displayed in bold, navy blue or black, and the “FDIC-Insured—Backed by the full faith and credit of the U.S. Government” shall be displayed in smaller type, in italic, and with navy blue or black lettering. The entire FDIC official digital sign shall be displayed in Source Sans Pro Web or similar font. For an FDIC official digital sign that would be illegible if displayed in the colors listed in this paragraph (b), due to the color of the background, the FDIC official digital sign shall be displayed in white to contrast with the background, and must otherwise comply with the other format requirements listed in this paragraph (b). The official digital sign required by the provisions of this section shall have the following design, for which wrapping may be permitted to address space constraints:

Figure 1 to Paragraph (b)

(c) Display of FDIC official digital sign. An insured depository institution's digital deposit-taking channel must clearly, continuously, and conspicuously display the FDIC official digital sign specified in paragraph (b) of this section on the following pages or screens:

(1) Initial page or homepage of the website or application;

(2) Login page; and

(3) Page or screen where the consumer first initiates a deposit account opening.

(d) Non-deposit signage—(1) Display of non-deposit signage. (i) An insured depository institution's digital deposit-taking channel that:

(A) Offers the ability to make deposits electronically and provides access to deposits; and

(B) Advertises or provides information about, or access to, one or more non-deposit products must clearly, continuously, and conspicuously display signage indicating that the non-deposit products: are not insured by the FDIC; are not deposits; and may lose value.

(ii) This signage must be displayed on all pages or screens primarily dedicated to advertising or providing information about, or access to, one or more non-deposit products.

(2) One-time notification for insured depository institution customers related to third-party non-deposit products—(i) Notification requirement. An insured depository institution's digital deposit-taking channel that provides access to a non-deposit product from a non-bank third party's online interface must provide a one-time per session notification to an insured depository institution customer who is logged into the insured depository institution's digital deposit-taking channel before the customer leaves the insured depository institution's digital deposit-taking channel to access the non-bank third party's non-deposit product.

(ii) Content of notification. The notification in paragraph (d)(2)(i) of this section must clearly and conspicuously indicate that the third party's non-deposit products: are not insured by the FDIC; are not deposits; and may lose value.

(iii) Dismissal of notification. The notification requirement in paragraph (d)(2)(i) of this section is satisfied if the notification, either or both:

(A) Is dismissed by an affirmative act of the bank customer, such as a click or swipe, after any period of time; or

(B) Automatically disappears after being displayed for a minimum of three seconds.

(e) Examples of clear, continuous, and conspicuous placement. Examples of the FDIC official digital sign and non-deposit signage placement that would satisfy the “clear, continuous, and conspicuous” standard include, but are not limited to, the following:

(1) The homepage of an insured depository institution's website that continuously displays the FDIC official digital sign near the top of the page and adjacent to the insured depository institution's name;

(2) The login page for an insured depository institution's mobile application that displays the FDIC official digital sign immediately adjacent to the username and password fields;

(3) The deposit account opening page for an insured depository institution's web-based application that displays the FDIC official digital sign near the top or center of the page; and

(4) With respect to non-deposit signage, a page on an insured depository institution's website promoting, for example, annuities available for purchase, with non-deposit signage appearing towards the bottom of the page in a manner that distinguishes the text of the non-deposit signage from the smallest text on the page using, for example, bold or larger text, or surrounding the signage with a text box.

(f) Additional disclosures permitted. This section does not limit an insured depository institution's ability to include additional disclosures.

3. Amend § 328.101 by adding the definition for “Digital symbol” in alphabetical order and revising the definition for “FDIC-Associated Images” to read as follows:

§ 328.101 Definitions.

* * * * *

Digital symbol means the portion of the FDIC official digital sign, as set forth in § 328.5(b), consisting of “FDIC” and the one line of smaller type to the right of “FDIC”.

* * * * *

FDIC-Associated Images means the Seal of the FDIC, alone or within the letter C of the term FDIC; the Official Sign and Symbol of the FDIC, as set forth in § 328.2; the FDIC Official Digital Sign set forth in § 328.5; the Digital Symbol set forth in this § 328.101; the Official Advertising Statement, as set forth in § 328.6; any similar images; and any other signs and symbols that may represent or imply that any deposit, liability, obligation certificate, or share is insured or guaranteed in whole or in part by the FDIC.

* * * * *

Federal Deposit Insurance Corporation.
By order of the Board of Directors.
Dated at Washington, DC, on January 22, 2026.
Jennifer M. Jones,
Deputy Executive Secretary.

[FR Doc. 2026-01806 Filed 1-28-26; 8:45 am]

BILLING CODE 6714-01-P